DEPARTMENT OF ENERGY

Notice of Request for Information (RFI) on Clean Hydrogen Manufacturing, Recycling, and Electrolysis

AGENCY: Office of Energy Efficiency and Renewable Energy, Department of Energy.

ACTION: Request for information.

SUMMARY: The U.S. Department of Energy (DOE) invites public comment on its request for information (RFI) number DE-FOA-0002698 regarding clean hydrogen manufacturing, recycling, and electrolysis technology research, development, and demonstration (RD&D). The purpose of the RFI is to collect stakeholder feedback regarding RD&D efforts needed to meet the goals of the “Clean Hydrogen Manufacturing Initiative;” “Clean Hydrogen Technology Recycling Research, Development, and Demonstration Program;” and the “Clean Hydrogen Electrolysis Program.”

DATES: Responses to the RFI must be received by March 29, 2022, by 5:00 p.m. ET.

ADDRESSES: Comments to the RFI must be provided in writing. Interested parties are to submit comments electronically to H2RFI@ee.doe.gov. Include “Clean Hydrogen Manufacturing, Recycling, and Electrolysis RFI Response” in the subject line of the email. If possible, copy and paste the RFI sections as a template for your responses. Email attachments can be provided as a Microsoft Word (.docx) file or an Adobe PDF (.pdf) file, prepared in accordance with the detailed instructions in the RFI. Documents submitted electronically should clearly indicate which topic areas and specific questions are being addressed and should be limited to no more than 25 MB in size. The complete RFI document is located at https://eere-exchange.energy.gov/.

FOR FURTHER INFORMATION CONTACT: Questions may be addressed to H2RFI@ee.doe.gov or to Karen Dandridge at (202) 586-7768. Further instruction can be found in the RFI document posted on EERE Exchange at https://eere-exchange.energy.gov/.

SUPPLEMENTARY INFORMATION: DOE's Hydrogen and Fuel Cell Technologies Office (HFTO), in coordination with EERE's Advanced Manufacturing Office, seeks input on priority areas that will advance domestic manufacturing and recycling of clean hydrogen technologies, including fuel cells, storage equipment, and other hydrogen related components; and on priority areas that will advance electrolyzer technologies for affordable clean hydrogen production, in alignment with section 40314 of the Infrastructure Investment and Jobs Act, also known as the Bipartisan Infrastructure Law (BIL) and the mission of DOE's Hydrogen Energy Earthshot.¹ This RFI is issued to obtain feedback on the status of and opportunities for technologies that support goals in BIL Sec. 40314, amending the Energy Policy Act of 2005 (EPACT). The BIL added a new section 815 on clean hydrogen manufacturing and recycling research, development, and demonstration (RD&D) and a new section 816 for the establishment of the Clean Hydrogen Electrolysis Program to EPACT. Specifically, the EPACT Sec. 815 activities are grouped into a Clean Hydrogen Manufacturing Initiative (815a) focused on enhancing domestic manufacturing of clean hydrogen use, storage, and related equipment and a Clean Hydrogen Technology Recycling RD&D Program (815b) that covers recycling of equipment for clean hydrogen processing, delivery, storage, and use, including fuel cells. The Clean Hydrogen Electrolysis Program expands on DOE's existing, comprehensive Program on electrolysis and is a research, development, demonstration, commercialization, and deployment program aimed at improving efficiency, increasing durability, and reducing capital costs of electrolyzers, thus facilitating the commercialization of clean hydrogen electrolyzer technology.²

¹ www.energy.gov/eere/fuelcells/hydrogen-shot.

² Public Law 109-58, Title VIII, sec. 816(b), as added Public Law 117-58, Div. D, Title III, sec. 40314(2), Nov. 15, 2021.

Specifically, this RFI seeks feedback and other guidance from industry, academia, research laboratories, government agencies, community groups, labor unions, energy users, environmental justice organizations, and other stakeholders regarding RD&D needs, critical barriers, or other activities needed in the following areas:

• New manufacturing technologies and techniques for clean hydrogen production, processing, delivery, storage and use equipment, including fuel cells

• Innovative and practical approaches to increase the reuse and recycling of clean hydrogen technologies

• Expanding research, development, demonstration, commercialization, and deployment of clean hydrogen electrolyzer technology to reach $2/kg H2 production cost by 2026

• Environmental justice, diversity, equity, and inclusion strategies, including significant and meaningful community engagement plans and workforce education and training strategies

Specific questions can be found in the RFI. The RFI is available at: https://eere-Exchange.energy.gov/.

Confidential Business Information: Pursuant to 10 CFR 1004.11, any person submitting information that he or she believes to be confidential and exempt by law from public disclosure should submit via email, postal mail, or hand delivery two well-marked copies: One copy of the document marked “confidential” including all the information believed to be confidential, and one copy of the document marked “non-confidential” with the information believed to be confidential deleted. Submit these documents via email, if feasible. DOE will make its own determination about the confidential status of the information and treat it according to its determination.

Signing Authority: This document of the Department of Energy was signed on February 7, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 9, 2022.
Treena V. Garrett,
Federal Register Liaison Officer, U.S. Department of Energy.

[FR Doc. 2022-03088 Filed 2-15-22; 8:45 am]

BILLING CODE 6450-01-P